NUCLEAR REGULATORY COMMISSION

Draft Regulatory Guide; Extension of Comment Period

In July 2002, the Nuclear Regulatory Commission issued for public comment a draft of a new guide in its Regulatory Guide Series. Draft Regulatory Guide DG-3021, “Site Evaluations and Determination of Design Earthquake Ground Motion for Seismic Design of Independent Spent Fuel Storage Installations and Monitored Retrievable Storage Installations,” was issued to propose guidance on a proposed revision to 10 CFR Part 72, “Licensing Requirements for the Independent Storage of Spent Nuclear Fuel, High-Level Radioactive Waste, and Reactor-Related Greater than Class C Waste” (67 FR 47745).

The State of Utah has requested a 15-day extension of the comment period for both the proposed rule and the draft regulatory guide. In view of the importance of the proposed rule and the amount of time that the State of Utah says is required to provide meaningful comments, the NRC has decided to extend the comment period, for both the proposed rule (published elsewhere in this issue of the Federal Register) and the draft regulatory guide, until October 22, 2002.

Comments received after this date will be considered if it is practical to do so, but the NRC is able to ensure consideration only for comments received by October 22, 2002. Comments may be accompanied by relevant information or supporting data. Written comments may be submitted to the Rules and Directives Branch, Office of Administration, U.S. Nuclear Regulatory Commission, Washington, DC 20555. Copies of comments received may be examined at the NRC Public Document Room, 11555 Rockville Pike, Rockville, MD.

You may also provide comments on both the proposed rule and the draft regulatory guide via the NRC's interactive rulemaking Web site through the NRC home page (http://www.nrc.gov). This site provides the ability to upload comments as files (any format) if your web browser supports that function. For information about the interactive rulemaking Web site, contact Ms. Carol Gallagher, (301) 415-5905; e-mail CAG@NRC.GOV. For information about the draft guide and the related documents, contact Mr. M. Shah at (301) 415-8537; e-mail MJS3@NRC.GOV.

Although a time limit is given for comments on this draft guide, comments and suggestions in connection with items for inclusion in guides currently being developed or improvements in all published guides are encouraged at any time.

Regulatory guides are available for inspection at the NRC's Public Document Room, 11555 Rockville Pike, Rockville, MD; the PDR's mailing address is USNRC PDR, Washington, DC 20555; telephone (301) 415-4737 or (800) 397-4205; fax (301) 415-3548; e-mail PDR@NRC.GOV. Requests for single copies of draft or final guides (which may be reproduced) or for placement on an automatic distribution list for single copies of future draft guides in specific divisions should be made in writing to the U.S. Nuclear Regulatory Commission, Washington, DC 20555, Attention: Reproduction and Distribution Services Section; or by e-mail to DISTRIBUTION@NRC.GOV; or by fax to (301) 415-2289. Telephone requests cannot be accommodated. Regulatory guides are not copyrighted, and Commission approval is not required to reproduce them. (5 U.S.C. 552(a))

Dated at Rockville, Maryland, this 22nd day of August, 2002.
For the Nuclear Regulatory Commission.
Mabel F. Lee,
Director, Program Management, Policy Development and Analysis Staff, Office of Nuclear Regulatory Research.

[FR Doc. 02-22332 Filed 9-4-02; 8:45 am]

BILLING CODE 7590-01-P